DEPARTMENT OF HEALTH AND HUMAN SERVICES

Announcement of Requirements and Registration for Caregivers Video Challenge

AGENCY: Office of the National Coordinator for Health Information Technology, HHS.

ACTION: Notice.

SUMMARY: The Caregivers Video Challenge is an opportunity for members of the public to create short, <2 min videos sharing how they use health IT and eHealth tools to help manage care for a loved one. Cash prizes are available to winning videos.

DATES: Effective on October 22, 2012.

FOR FURTHER INFORMATION CONTACT: Erin Poetter, Policy Analyst, Office of Consumer eHealth, ONC, erin.poetter@hhs.gov, 202-205-3310.

SUPPLEMENTARY INFORMATION: Subject of Challenge Competition: The Office of the National Coordinator for Health Information Technology (ONC), seeks to motivate and inspire patients and their family caregivers to get access to their health information and to leverage health IT and other consumer eHealth tools to be empowered to better manage their health and the health of loved ones. Patients and their family caregivers today have access to an unprecedented number of tools and resources to enhance their ability to manage care. The Caregivers Video Challenge is an opportunity for members of the public to create short (<2 min long) videos sharing how they use health IT and eHealth tools to learn about or better manage the care for a loved one. This is the sixth in a series of Health IT Video Contests that ONC has sponsored throughout 2012. The goal of this video contest series is to generate inspirational stories that may be used to motivate and inspire others to leverage technology to better manage their health and be more engaged partners in their health and health care. Family caregivers can include: prenatal or child care, care for a spouse or partner, and care for an elderly parent, relative or friend. Videos will demonstrate how health IT can be used to help caregivers learn about or better manage care. Video topics could include:

• Leveraging health IT to monitor remotely a loved one's care

• Helping make sure the care they receive reflects personal preferences

• Coordinating care transitions

• Improving patient or caregiver collaboration with a healthcare provider

• Accessing or establishing electronic health records

• Caregiver-to-caregiver/parent-to-parent support

• Medication management

• Caregiver-provider collaboration

Please refer to the http://Caregivers.challenge.gov Web site for the most up to date information about the contest and deadlines since they are subject to change.

Eligibility Rules for Participating in the Competition:

To be eligible to win a prize under this challenge, an individual or entity—

(1) Shall have registered to participate in the competition under the rules promulgated by HHS;

(2) Shall have complied with all the requirements under this section;

(3) In the case of a private entity, shall be incorporated in and maintain a primary place of business in the United States, and in the case of an individual, whether participating singly or in a group, shall be a citizen or permanent resident of the United States; and

(4) May not be a Federal entity or Federal employee acting within the scope of their employment.

(5) Shall not be an HHS employee working on their applications or submissions during assigned duty hours.

(6) Shall not be an employee of the Office of the National Coordinator for Health Information Technology

(7) Federal grantees may not use Federal funds to develop COMPETES Act challenge applications unless consistent with the purpose of their grant award.

(8) Federal contractors may not use Federal funds from a contract to develop COMPETES Act challenge applications or to fund efforts in support of a COMPETES Act challenge submission.

(9) May not be:

a. An employee of a commercial business whose name, brand name, product or other trademark is mentioned or featured in the Video, or

b. A contractor or employee of an affiliate, subsidiary, advertising agency, or any other company involved in marketing a commercial business, brand name, product or other trademark mentioned or featured in the Video.

All individual members of a team must meet the eligibility requirements.

An individual or entity shall not be deemed ineligible because the individual or entity used Federal facilities or consulted with Federal employees during a competition if the facilities and employees are made available to all individuals and entities participating in the competition on an equitable basis.

By participating in this Challenge, Contestants agree to assume any and all risks and waive claims against the Federal Government and its related entities, except in the case of willful misconduct, for any injury, death, damage, or loss of property, revenue, or profits, whether direct, indirect, or consequential, arising from participation in this prize contest, whether the injury, death, damage, or loss arises through negligence or otherwise. By participating in this Challenge, Contestants agree to indemnify the Federal Government against third party claims for damages arising from or related to Challenge activities.

DATES:

Submission Period Begins: 10:00 a.m., EDT, October 22, 2012.

Submission Period Ends: 5:00 p.m., EDT, December 10, 2012.

Registration Process for Participants:

1. To register for the Caregivers Video Challenge participants should: Access the http://Challenge.gov Web site and search for the “Caregivers Video Challenge.” Interested persons should read the official rules posted on the Challenge site at http://Caregivers.Challenge.gov. Contestants must Register or use an existing ChallengePost account.

2. On http://Caregivers.Challenge.gov, click “Accept this challenge” to register your interest in participating. This step ensures that you will receive important challenge updates.

Prize:

Winner | Prize | Quantity
First Prize | $3,000 | 1
Second Prize | 2,000 | 1
Third Prize | 1,250 | 1
Honorable Prize | 750 | 2
Popular Choice | 600 | 1

Awards may be subject to Federal income taxes and HHS will comply with IRS withholding and reporting requirements, where applicable.

Basis Upon Which Winner Will Be Selected:

The judging panel will make selections based upon the following criteria:

1. Creativity (Includes elements such as the creativity and coherence of the script/story)

2. Potential Impact (Includes whether the video is compelling, inspiring, instructive, and share-able.)

3. Video and Audio Quality (All types of videos will be accepted into the Challenge. However, effort to show quality of the video content, narrative and visual appearance will be assessed.)

4. Video Plays (Includes the number of plays on either YouTube or Vimeo—whichever service was linked to in the submission. The more plays the video has the better it will score in this category.)

There will be one Popular Choice award for the video that receives the most number of verified votes during the voting period.

Additional information

Submission Rights

By participating in this Challenge, each Contestant grants to the ONC, the Administrator and others acting on behalf of ONC, an irrevocable, paid-up, royalty-free nonexclusive worldwide license to post, link to, share, and display publicly on the Web. This license includes posting or linking to the Submission on the official ONC Web sites and Web sites of other who have agreed to promote the Challenge, making it available for use by the public. By entering the challenge, contestants agree to make the original digital file of their Video available to ONC and/or the Administrator or others acting on behalf of ONC upon request.

Compliance With Rules and Contacting Contest Winners

Finalists and the Contest Winners must comply with all terms and conditions of these Official Rules, and winning is contingent upon fulfilling all requirements herein. The initial finalists will be notified by email, telephone, or mail after the date of the judging.

Awards may be subject to Federal income taxes, and the Department of Health and Human Services will comply with the Internal Revenue Service withholding and reporting requirements, where applicable.

General Conditions

Participation in this Contest constitutes a contestant's full and unconditional agreement to abide by the Contest's Official Rules found at www.Challenge.gov.

Sponsor of Administrator reserves the right to cancel, suspend and/or modify the Challenge, or any part of it, for any reason, at ONC's sole discretion.

Authority: 15 U.S.C. 3719.

Dated: October 11, 2012.
Farzad Mostashari,
National Coordinator for Health Information Technology.

[FR Doc. 2012-25699 Filed 10-18-12; 8:45 am]

BILLING CODE 4150-45-P